DEPARTMENT OF THE TREASURY

Submission for OMB Review; Comment Request

August 26, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 3, 2005 to be assured of consideration.

Internal Revenue Service (IRS)

OMB Number: 1545-1498.

Type of Review: Extension.

Title: REG-209826-96 (NPRM) Application of the Grantor Trust Rules to Nonexempt Employees' Trusts.

Description: The regulations provide rules for the application of the grantor trust rules to certain nonexempt employees' trust. Taxpayers must indicate on a return that they are relying on a special rule to reduce the over funded amount of the trust.

Respondents: Business or other for-profit.

Estimated Total Burden Hours: 1,000 hours.

OMB Number: 1545-1797.

Type of Review: Extension.

Title: REG-106876-00 (Final), Revision of Income Tax Regulations under Section 897, 1445 and 6109 to require use of Taxpayer Identifying Numbers on Submission under the Section 897 and 1445 Regulations.

Description: The collection of information relates to applications for withholding certificates under Treas. Reg. 1.1445-3 to be filed with the IRS with respect to (1) dispositions of U.S. real property interests that have been used by foreign persons as a principled residence within the prior 5 years and excluded from gross income under section 121 and (2) dispositions of U.S. real property interests by foreign persons in deferred like kind exchanges that qualify for nonrecognition under section 1031.

Respondents: Individuals or households and business or other-for-profit.

Estimated Total Burden Hours: 600 hours.

OMB Number: 1545-1935.

Type of Review: Extension.

Title: Notice 2005-40 election to defer net experience loss in a multiemployer plan.

Description: This notice describes the election that must be filed by an eligible multiemployer plan's enrolled actuary to the Service in order to defer a net experience loss. The notice also describes that notification that must given to plan participants and beneficiaries, to labor organizations, to contributing employers and to the Pension Benefit Guaranty Corporation within 30 days of making an election with the Service and the certification that must be filed if a restricted amendment is adopted.

Respondents: Business or other for profit and not-for-profit institutions.

Estimated Total Burden Hours: 960 hours.

Clearance Officer: Glenn P. Kirkland, (202) 622-3428, Internal Revenue Service, Room 6516, 1111 Constitution Avenue, NW, Washington, DC 20224.

OMB Reviewer: Alexander T. Hunt, (202) 395-7316, Office of Management and Budget, Room 10235, New Executive Office Building, Washington, DC 20503.

Michael A. Robinson,
Treasury PRA Clearance Officer.

[FR Doc. 05-17421 Filed 8-31-05; 8:45 am]

BILLING CODE 4830-01-P